OFFICE OF THE UNITED STATES TRADE REPRESENTATIVE

Public Availability of the Fiscal Year 2021 Service Contract Inventory

AGENCY: Office of the United States Trade Representative (USTR).

ACTION: Notice.

SUMMARY: USTR is announcing that its fiscal year (FY) 2021 service contract inventory is publicly available.

FOR FURTHER INFORMATION CONTACT: Michelle Secrist, Financial and Accounting Analyst, at Michelle_Secrist@ustr.eop.gov or (202) 395-3505.

SUPPLEMENTARY INFORMATION:

In accordance with section 743 of Division C of the Consolidated Appropriations Act of 2010 (Pub. L. 111-117), USTR is providing notice that USTR's FY2021 service contract inventory is publicly available. The inventory includes several attributes of certain service contracts such as dollar value, contract type, and place of performance. USTR developed its inventory and analysis in accordance with instructions issued by the Office of Management and Budget's Office of Federal Procurement Policy.

USTR's inventory is included in the government-wide inventory at https://www.acquisition.gov/service-contract-inventory. The government-wide inventory can be filtered for USTR data. In addition, analysis of FY2020 service contract data is available on the USTR website at https://ustr.gov/about-us/reading-room/service-contract-inventories.

Fred Ames,
Assistant U.S. Trade Representative for Administration, Office of the United States Trade Representative.

[FR Doc. 2023-21677 Filed 9-29-23; 8:45 am]

BILLING CODE 3290-F3-P